DEPARTMENT OF VETERANS AFFAIRS

Solicitation of Nomination for Appointment to the National Research Advisory Council

ACTION: Notice.

SUMMARY: The Department of Veterans Affairs (VA) is seeking nominations of qualified candidates to be considered for appointment as a member of the National Research Advisory Council for the 2020 membership cycle.

DATES: Nominations for membership on the Council must be received no later than 4:00 p.m. EST on September 15, 2019.

ADDRESSES: All nomination packages should be sent to the Veterans Health Administration, Department of Veterans Affairs, 810 Vermont Avenue NW (10X2), Washington, DC 20420, faxed to (202) 495-6156, or emailed (recommended) to Avery.Rock@va.gov.

FOR FURTHER INFORMATION CONTACT: Mrs. Avery Rock and/or Rashelle Robinson, Veterans Health Administration, Department of Veterans Affairs, 810 Vermont Avenue NW (10X2), Washington, DC 20420, Telephone (202) 461-9760. A copy of the Council's charter and list of the current memberships can be obtained by contacting Mrs. Rock or Ms. Robinson or by accessing the website: https://www.va.gov/ADVISORY/NRAC.asp.

SUPPLEMENTARY INFORMATION: In carrying out the duties set forth, the Council's responsibility includes, but are not limited to:

(1) Providing advice to the Secretary of Veterans Affairs and the Under Secretary for Health (USH) and makes recommendations on the nature and scope of research and development sponsored and/or conducted by the Veterans Health Administration (VHA).

(2) Providing rapid response to changing health care needs, while maintaining the stability of the research infrastructure.

Authority: The Council is authorized by 5 U.S.C., App. 2, to provide advice to the Secretary of Veterans Affairs (Secretary) and the Under Secretary for Health (USH) and makes recommendations on the nature and scope of research and development sponsored and/or conducted by the Veterans Health Administration (VHA) to include: (1) The policies and projects of the Office of Research and Development (ORD); (2) the focus of research on the high priority health care needs of Veterans; (3) the balance of basic, applied, and outcomes research; (4) the scientific merit review process; (5) the appropriate mechanisms by which ORD can leverage its resources to enhance the research financial base; (6) the rapid response to changing health care needs, while maintaining the stability of the research infrastructure; and (7) the protection of human subjects of research.

Membership Criteria: The Council is currently composed of 12 members. By statute, the Council consists of members appointed by the Secretary from the general public, including individuals who have demonstrated civic or professional achievement; and have experience with the provision of Veterans benefits and services by VA.

The membership will include: (1) Individuals from a wide variety of geographic areas and ethnic backgrounds; (2) individuals from Veterans service organizations; (3) individuals with combat experience; and (4) women. In addition to the above criteria, VA seeks knowledgeable VA- and non-VA experts, with special qualifications and competence to deal effectively with research and development issues. Appropriate categories of primary expertise that may be represented include: (1) Basic biomedical research; (2) rehabilitation research and development; (3) health services research and development; (4) clinical research; (5) geriatric care; (6) primary care; (7) special Veterans population health issues; (8) occupational and environmental health research; (9) mental health and behavioral research; and (10) surgery.

Self-nominations are acceptable. Any letters of nomination from organizations or other individuals should accompany the package when it is submitted. Non-Veterans are also eligible for nomination.

The Secretary will appoint members for overlapping 2-year terms of service and may reappoint members for one additional term. The Secretary will appoint the Chair for a term of not more than 3 years and may reappoint the Chair for one additional term. Several members may be regular government employees, but the majority of the Council's membership will be special government employees.

The Council meets at least four times annually, which may include a site visit to a VA field location. In accordance with Federal Travel Regulation, VA will cover travel expenses—to include per diem—for all members of the Council, for any travel associated with official Council duties.

In accordance with recently revised guidance regarding the ban on lobbyists serving as members of advisory boards and commissions, Federally-registered lobbyists are prohibited from serving on Federal advisory Councils in an individual capacity. Additional information regarding this issue can be found at www.federalregister.gov/articles/2014/08/13/2014-19140/revised-guidance-onappointment-of-lobbyists-to-federal-advisory-Councils-boards-and-commissions.

The Department makes every effort to ensure that the membership of its Advisory Committees is fairly balanced, in terms of points of view represented. In the review process, consideration is given to nominees' potential to address the Council's demographic needs (regional representation, race/ethnicity representation, professional expertise, war era service, gender, former enlisted or officer status, branch of service, etc.). Other considerations to promote a balanced membership include: Longevity of military service, significant deployment and research experience, ability to handle complex issues, experience running large organizations, special qualifications and competence to deal effectively with research and development issues in the VA and ability to contribute to the Office of Research and Development's mission to advance the healthcare of Veterans and ensure that research professionalism and protection of Veterans' rights are top priorities.

Nominations must state that the nominee is willing to serve as a member of the Committee and appears to have no conflict of interest that would preclude membership. An ethics review is conducted for each selected nominee.

Requirements for Nomination Submission: Nomination packages must be typed (12-point font) and include: (1) A cover letter from the nominee, and (2) a current curriculum vitae. The cover letter must summarize: The nominees' interest in serving on the Council and contributions she/he can make to the work of the Council; any relevant Veterans service activities she/he is currently engaged in; the military branch affiliation and timeframe of military service (if applicable). To promote inclusion and demographic balance of membership, please include as much information related to your race, national origin, disability status, or any other factors that may give you a diverse perspective on National Research Advisory Council matters. Finally, please include in the cover letter the nominee's complete contact information (name, address, email address, and phone number); and a statement confirming that she/he is not a Federally-registered lobbyist. The resume should show professional work experience, publications, academic affiliations and Veterans service involvement; especially service that involves National Research Advisory Council's issues.

Dated: July 25, 2019.
LaTonya L. Small,
Federal Advisory Committee Management Officer.

[FR Doc. 2019-16209 Filed 7-30-19; 8:45 am]

BILLING CODE 8320-01-P